DEPARTMENT OF THE INTERIOR

Office of the Secretary

[DLCAP000.000000-DX.10120]

Request for Nominations To Serve on Board of Trustees for the Cobell Education Scholarship Fund

AGENCY: Office of the Secretary, Interior.

ACTION: Notice of reopening; request for nominations.

SUMMARY: Pursuant to the Claims Resolution Act of 2010, Public Law 111-291, 124 Stat. 3064, and the Class Action Settlement Agreement (“Agreement”), Cobell v. Salazar, the Secretary of the Interior is reopening the request for nominations of candidates to serve on the Board of Trustees (“Board”) for the Cobell Education Scholarship Fund. The Board serves as an oversight body to the American Indian College Fund and must consist of no more than five members that will include two representatives selected by the Secretary and two representatives selected by the Plaintiff, and one representative selected by the non-profit organization. The Secretary will consider nominations received within 30 days after the publication of this notice. The SUPPLEMENTARY INFORMATION section of this notice provides additional information.

DATES: Nominations must be received on or before May 20, 2013. Assistant Secretary—Indian Affairs Kevin K. Washburn will be hosting a tribal leader call on Monday, April 22, 2013 from 3:00 p.m.-4:00 p.m. to discuss the duties and responsibilities of Board members as well as any questions you may have regarding nominations to the Board. To participate on the call, please dial 1-800-369-2020, passcode 5207626.

ADDRESSES: Please submit nominations to Lizzie Marsters, Chief of Staff to the Deputy Secretary, Department of the Interior, 1849 C Street NW., Room 6118, Washington, DC 20240 or email to lizzie_marsters@ios.doi.gov.

FOR FURTHER INFORMATION CONTACT: Lizzie Marsters, Chief of Staff to the Deputy Secretary, at lizzie_marsters@ios.doi.gov or call 202-219-7499.

SUPPLEMENTARY INFORMATION: The Board of Trustees for the Cobell Education Scholarship Fund is being established to fulfill the requirements set forth in the Claims Resolution Act of 2010, Public Law 111-291, 124 Stat. 3064. Specifically, the Claims Resolution Act of 2010 states “the 2 members of the special board of trustees to be selected by the Secretary under paragraph G.3. of the Settlement shall be selected only after consultation with, and after considering the names of possible candidates timely offered by, federally recognized Indian tribes.” Pursuant to the Agreement, the Secretary is to select one non-profit organization among those entities nominated by the Plaintiffs to administer the funds provided for in the Agreement for the Cobell Education Scholarship Fund and to establish a Scholarship Program to provide financial assistance to Native American students to defray the cost of attendance at both post-secondary vocational schools and institutions of higher education. On March 12, 2013, the Secretary of the Interior announced the American Indian College Fund as the non-profit organization. The Board of Trustees shall oversee the management of the Cobell Education Scholarship Fund. The Cobell Education Scholarship Fund was created as an incentive to participate in the Land Buy-Back Program for Indian Nations (Buy-Back Program), the $1.9 billion land consolidation program authorized by the Claims Resolution Act of 2010. The Buy-Back Program contributes up to $60 million of the $1.9 billion to the Cobell Education Scholarship Fund based on the dollar amount of land purchased through the Buy-Back Program. In addition to the maximum $60 million that can be contributed to the Fund, the principal amount of any class member funds in an IIM (Individual Indian Monies) account, for which the whereabouts are unknown and left unclaimed for five years after Final Approval of the Settlement, will be transferred to the organization selected to administer the Cobell Education Scholarship Fund and will be governed by the Board of Trustees. Similarly, any leftover funds from the administration of the Settlement Fund (after all payments under the Settlement are made) will be contributed towards the Cobell Education Scholarship Fund. Assistant Secretary—Indian Affairs Kevin K. Washburn will be hosting a tribal leader call on Monday, April 22, 2013 from 3:00 p.m.-4:00 p.m. to discuss the duties and responsibilities of Board members as well as any questions you may have regarding nominations to the Board. To participate on the call, please dial 1-800-369-2020, passcode 5207626.

Objective and Duties. The Board will be responsible for the oversight and supervision of the activities of the non-profit organization. The duties of the Board include, but are not limited to, appointing an auditor to review the finances and procedures of the organization, approving policies and objectives regarding the Cobell Education Scholarship Fund and Scholarship program, approving an investment policy and approving priorities and criteria for awarding scholarships. The Board shall develop and adopt a charter outlining the Board of Trustees' role and responsibilities overseeing the non-profit organization and the administration and management of the Cobell Education Scholarship Fund and the Scholarship Program. The Board or Trustees shall be empowered by majority vote to remove the funds from the selected organization for any reason, including mismanagement, and to select a new entity.

Membership. The members of the Board shall serve for an initial term of four years and may be reappointed for an unlimited number of successive terms. A member may be removed for cause by the appointing entity and any vacancy shall be filled in the same manner as the original appointment. No member of the Board shall have had any contracts to transact business with the non-profit organization within a period of two calendar years and will disclose any appearance of a conflict of interest. Members will serve without compensation, but will be reimbursed for reasonable travel expenses related to the performance of their duties as members of the Board.

Nomination Information. The best boards are a mix of characteristics, skills, experiences, and diversity. Individuals who are nominated should be prepared to contribute a significant amount of time and effort to further the goals of the scholarship fund; should have demonstrated notable or significant achievements in business, finance, education or public service; should possess the requisite intelligence, education and experience to make a significant contribution to the Board; have the highest ethical standards, free of significant conflicts of interest that might not allow the proper execution of the duties of a member of the Board; and have a strong commitment to serving the interests of Native American students. Please send curriculum vitae, a letter of intent which indicates a willingness to serve, and a 250-word statement which supports your candidacy to Lizzie Marsters, Chief of Staff to the Deputy Secretary, Department of the Interior, 1849 C Street NW., Room 6118, Washington, DC 20240 or email to lizzie_marsters@ios.doi.gov.

Dated: April 15, 2013.
David J. Hayes,
Deputy Secretary.

[FR Doc. 2013-09145 Filed 4-15-13; 4:15 pm]

BILLING CODE 4310-RK-P